DEPARTMENT OF HOMELAND SECURITY

Federal Emergency Management Agency

[Docket ID: FEMA-2017-0027; OMB No. 1660-0013]

Agency Information Collection Activities: Submission for OMB Review; Comment Request; Exemption of State-Owned Properties Under Self-Insurance Plan

AGENCY: Federal Emergency Management Agency, DHS.

ACTION: Notice and request for comments.

SUMMARY: The Federal Emergency Management Agency (FEMA), as part of its continuing effort to reduce paperwork and respondent burden, invites the general public to take this opportunity to comment on a reinstatement, without change, of a previously approved information collection for which approval has expired. FEMA will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 4, 2017.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW., Washington, DC 20472, email address FEMA-Information-Collections-Management@fema.dhs.gov or Suzan Krowel, Insurance Examiner, Federal Insurance and Mitigation Administration, DHS/FEMA, at (202) 701-3701.

SUPPLEMENTARY INFORMATION: State-Owned properties covered under an adequate State policy of self-insurance satisfactory to FEMA are not required to purchase flood insurance in accordance with Section 102(c)(1) of the Flood Disaster Protection Act of 1973 (42 U.S.C. 4012a(c)(1)). NFIP regulations, 44 CFR part 75, establish the standards which a State's insurance plan must meet to be found exempt from the requirement to purchase flood insurance coverage for State-owned structures and their contents. To be eligible for the exemption, State properties must be located in areas identified by the Administrator as A, AO, AH, A1-30, AE, AR, AR/A1-30, AR/AE, AR/AO, AR/AH, AR/A, A99, M, V, VO, V1-30, VE, and E zones, in which the sale of insurance has been made available.

This proposed information collection previously published in the Federal Register on June 27, 2017 at 82 FR 29090 with a 60 day public comment period. FEMA received one comment. The commenter advocated for the extension of the State self-insurance exemption to all entities, including small business. FEMA appreciates this comment but is unable to extend the exemption because it is statutorily prescribed. This information collection expired on September 30, 2017. FEMA is requesting a reinstatement, without change, of a previously approved information collection for which approval has expired. The purpose of this notice is to notify the public that FEMA will submit the information collection abstracted below to the Office of Management and Budget for review and clearance.

Collection of Information

Title: Exemption of State-Owned Properties Under Self-Insurance.

Type of information collection: Reinstatement, without change, of a previously approved collection for which approval has expired.

OMB Number: 1660-0013.

Form Titles and Numbers: None.

Abstract: Application for exemption must be made by the Governor or other duly authorized official of the State accompanied by sufficient supporting documentation which certifies that the plan of self-insurance upon which the application for exemption is based meets or exceeds the standards in NFIP regulations at 44 CFR 75.11.

Affected Public: State, Local or Tribal Government.

Estimated Number of Respondents: 20.

Estimated Number of Responses: 20.

Estimated Total Annual Burden Hours: 5.

Estimated Total Annual Respondent Cost: The estimated annual cost to respondents for the hour burden is $8,547. There are no annual costs to respondents operations and maintenance costs for technical services. There is no annual start-up or capital costs. The cost to the Federal Government is $3,920.10.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: October 30, 2017.
William Holzerland,
Information Management Division Director, Mission Support, Federal Emergency Management Agency, Department of Homeland Security.

[FR Doc. 2017-24005 Filed 11-2-17; 8:45 am]

BILLING CODE 9110-11-P